DEPARTMENT OF HOUSING AND URBAN DEVELOPMENT

[Docket No. FR-6289-N-05]

Tribal Intergovernmental Advisory Committee; Reopening Request for Nominations

AGENCY: Office of Assistant Secretary for Public and Indian Housing, U.S. Department of Housing and Urban Development (HUD).

ACTION: Notice.

SUMMARY: On March 31, 2022, HUD issued a notice seeking requests for nominations for HUD's Tribal Intergovernmental Advisory Committee (TIAC) which closed on May 31, 2022. HUD did not receive any Tribal nominations from the Southwest Region and is reopening the request for nominations for HUD's Tribal Intergovernmental Advisory Committee (TIAC) for another thirty days. HUD encourages nominations from Tribes from all regions. This notice provides details on who is eligible to serve on TIAC and how Tribal governments can nominate persons to serve on TIAC on their behalf.

DATES: Nominations for potential representatives of the TIAC are due on or before July 28, 2022.

ADDRESSES: Interested persons are invited to submit nominations for potential representatives of the TIAC. Nominations must be submitted to HUD electronically. All submissions must refer to the above docket number and title.

Electronic Submission of Nominations. Interested persons must submit nominations electronically through the Federal eRulemaking Portal at www.regulations.gov and refer to the above docket number and title. Electronic submission allows the maximum time to prepare and submit nominations, ensures timely receipt by HUD, and enables HUD to make them immediately available to the public. Nominations submitted electronically through the www.regulations.gov website can be viewed by interested members of the public. Individuals should follow the instructions provided on that website to submit nominations.

Note: Nominations should not be submitted by mail.

No Facsimile Comments. Facsimile (FAX) comments will not be accepted.

Public Inspection of Nominations. All properly submitted nominations and communications submitted to HUD will be available for public inspection and copying between 8:00 a.m. and 5:00 p.m. weekdays at the HUD Headquarters building located at 451 7th Street, SW, Washington, DC, 20410-0500. Due to security measures at the HUD Headquarters building, an advance appointment to review the submissions must be scheduled by calling the Regulations Division at (202) 708-3055 (this is not a toll-free number). Individuals with speech or hearing impairments may access this number via TTY by calling the toll-free Federal Relay Service at (800) 877-8339. Copies of all submissions are available for inspection and downloading at www.regulations.gov.

FOR FURTHER INFORMATION CONTACT: Heidi J. Frechette, Deputy Assistant Secretary for Native American Programs, Office of Public and Indian Housing, Department of Housing and Urban Development, 451 7th Street SW, Room 4108, Washington, DC 20410-0500, telephone (202) 401-7914 (this is not a toll-free number). Individuals with speech or hearing impairments may access this number via TTY by calling the toll-free Federal Relay Service at (800) 877-8339.

SUPPLEMENTARY INFORMATION:

I. Background

Consistent with Executive Order 13175,¹ HUD's Tribal Government-to-Government Consultation Policy recognizes the right of Indian tribes to self-governance and supports Tribal sovereignty and self-determination.² It provides that HUD will engage in regular and meaningful consultation and collaboration with Tribal officials in the development of Federal policies that have Tribal implications. Executive Order 13175 also requires Federal agencies to advance Tribal self-governance and ensure that the rights of sovereign Tribal governments are fully respected by conducting open and candid consultations. On January 26, 2021, President Biden issued a Presidential Memorandum on Tribal Consultation and Strengthening Nation-to-Nation Relationships.³ The memorandum directed all Federal agencies to take actions to strengthen their Tribal consultation policies and practices and to further the purposes of Executive Order 13175.

¹ Executive Order 13175, 65 FR 67249 (November 9, 2000).

² Tribal Government-to-Government Consultation Policy, 81 FR 40893 (June 23, 2016).

³ The memorandum was published in the Federal Register on January 29, 2021 (86 FR 7491).

On March 31, 2022, HUD published a notice ⁴ in the Federal Register that provided the revised structure of the TIAC and requested the submission of Tribal nominations to the TIAC. While a sufficient number of nominations were received to fill the Tribal positions, HUD did not receive Tribal nominations from the Southwest Region. To ensure that the TIAC provides sufficient representation, HUD is extending the nomination deadline for TIAC. Nominations are due on or before: July 28, 2022. HUD encourages nominations from Tribes from all regions.

⁴ Notice of Intent To Establish a Tribal Intergovernmental Advisory Committee; Structure and Request for Nominations, 87 FR 18807 (May 31, 2022).

II. Previously Submitted Nominations

Previously submitted nominations do not need to be resubmitted for consideration. These names are already being taken under consideration, along with any other nominations that will be forthcoming under the extension.

III. Nominations for TIAC Representation

HUD is requesting nominations for Tribal representatives to serve on the TIAC. Nominations are due on or before: July 28, 2022. If you are interested in serving as a representative of the Committee or in nominating another person to serve as a representative of the Committee, you may submit a nomination to HUD in accordance with the Electronic Submission of Nominations section of this notice. Your nomination for representation on the Committee must include:

1. The name of the nominee, a description of the interests the nominee would represent, and a description of the nominee's experience and interest in American Indian and Alaska Native housing and community development matters;

2. Evidence that the nominee is a duly elected or appointed Tribal leader and is authorized to represent a federally recognized tribal government or Alaska Native Corporation;

3. A written commitment from the nominee that she or he will actively engage and participate in the Committee meetings; and

4. A written preference for serving either a two- or a three-year term on the TIAC. HUD will appoint the representatives of the TIAC from the pool of nominees submitted in response to this notice. HUD will announce the final selections for TIAC representatives in a subsequent Federal Register notice. Representatives will be selected based on proven experience and interest in American Indian and Alaska Native (AIAN) housing and community development matters and whether the interest of the proposed representative could be represented adequately by other representatives. In addition to the criteria above, at-large representatives will be selected based on their ability to represent specific interests that might not be represented by the selected regional representatives.

Generally, only elected officers of a tribal government acting in their official capacities with authority to act on behalf of the tribal government may serve as TIAC representatives or alternates of the TIAC. However, tribal employees are also eligible to serve if appointed by a duly elected tribal leader of a federally recognized tribe and are authorized to officially act on the Tribal government's behalf. Elected officials representing Alaska Native Corporations, or designated employees, may also serve on TIAC at HUD's discretion provided they demonstrate that they meet the criteria specified in the statutory exemption to the Federal Advisory Committee Act (FACA) found in the Unfunded Mandates Reform Act (UMRA) at 2 U.S.C. 1534(b).

Because the TIAC will operate under the Tribal government statutory exemption to the Federal Advisory Committee Act (FACA) found in the Unfunded Mandates Reform Act (UMRA) at 2 U.S.C. 1534(b), HUD will not consider nominees solely representing Tribally Designated Housing Entities, state recognized Tribes, or national or regional organizations. However, HUD will consider nominations from associations that represent elected officials of Tribes who have been designated by an elected Tribal leader to participate in TIAC.

Danielle L. Bastarache,
Deputy Assistant Secretary, Office of Public Housing and Voucher Programs; Acting General Deputy Assistant Secretary for the Office of Public and Indian Housing.

[FR Doc. 2022-13697 Filed 6-27-22; 8:45 am]

BILLING CODE 4210-67-P